DEPARTMENT OF TRANSPORTATION

Federal Railroad Administration

[Docket Number FRA-2016-0086]

Petition for Waiver of Compliance

Under part 211 of title 49 Code of Federal Regulations (CFR), this document provides the public notice that by letter dated April 4, 2022, BNSF Railway (BNSF) petitioned the Federal Railroad Administration (FRA) to make permanent a waiver of compliance from certain provisions of the Federal railroad safety regulations contained at 49 CFR parts 232 (Brake System Safety Standards for Freight and Other Non-Passenger Trains and Equipment; End-Of-Train Devices), and 229 (Railroad Locomotive Safety Standards). The relevant FRA Docket Number is FRA-2016-0086.

Specifically, BNSF requests to transition the current test waiver in this docket to a permanent waiver in which relief is granted from § 232.205(c)(1)(iii), Class I brake test-initial terminal inspection, and § 229.29(b), Air brake system calibration, maintenance, and testing, related to air flow method (AFM) indicator calibration intervals. The existing relief allows BNSF, CSX Transportation, Canadian National Railway, and Kansas City Southern Railway Company to test extending the AFM test intervals from 92 days to 184 days on locomotives equipped with the New York Air Brake CCB-II air brake systems. In support of its request, BNSF states that AFM calibration performance has been greatly improved over the lifetime of the test waiver and that the AFM test waiver committee has concluded that 184-day calibration significantly improves air brake system quality and offers additional benefits.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by July 11, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2022-11377 Filed 5-26-22; 8:45 am]

BILLING CODE 4910-06-P